DEPARTMENT OF HEALTH AND HUMAN SERVICES

Food and Drug Administration

Advisory Committees; Tentative Schedule of Meetings for 2004

AGENCY: Food and Drug Administration, HHS.

ACTION: Notice.

SUMMARY: The Food and Drug Administration (FDA) is announcing a tentative schedule of forthcoming meetings of its public advisory committees for 2004. During 1991, at the request of the Commissioner of Food and Drugs (the Commissioner), the Institute of Medicine (IOM) conducted a study of the use of FDA's advisory committees. In its final report, one of IOM's recommendations was for the agency to publish an annual tentative schedule of its meetings in the Federal Register. This publication implements IOM's recommendation.

FOR FURTHER INFORMATION CONTACT: Theresa L. Green, Advisory Committee Oversight and Management Staff (HF-4), Food and Drug Administration, 5600 Fishers Lane, Rockville, MD 20857, 301-827-1220.

SUPPLEMENTARY INFORMATION: IOM, at the request of the Commissioner, undertook a study of the use of FDA's advisory committees. In its final report in 1992, one of IOM's recommendations was for FDA to adopt a policy of publishing an advance yearly schedule of its upcoming public advisory committee meetings in the Federal Register. FDA has implemented this recommendation. The annual publication of tentatively scheduled advisory committee meetings will provide both advisory committee members and the public with the opportunity, in advance, to schedule attendance at FDA's upcoming advisory committee meetings. Because the schedule is tentative, amendments to this notice will not be published in the Federal Register. However, changes to the schedule will be posted on FDA's advisory committees' Internet site located at http://www.fda.gov/oc/advisory/default.htm. FDA will continue to publish a Federal Register notice 15 days in advance of each upcoming advisory committee meeting, to announce the meeting (21 CFR 14.20).

The following list announces FDA's tentatively scheduled advisory committee meetings for 2004. You may also obtain up-to-date meeting information by calling the Advisory Committee Information Line, 1-800-741-8138 (301-443-0572 in the Washington, DC area).

Committee Name | Date(s) of Meetings | Advisory Committee 10-Digit Information Line Code
OFFICE OF THE COMMISSIONER
Science Board to the Food and Drug Administration | April 22, November 4 | 3014512603
CENTER FOR BIOLOGICS EVALUATION AND RESEARCH
Allergenic Products Advisory Committee | April 2 | 3014512388
Biological Response Modifiers Advisory Committee | March 18-19, July 15-16, November 18-19 | 3014512389
Blood Products Advisory Committee | March 18-19, July 12-13, October 21-22 | 3014519516
Transmissible Spongiform Encephalopathies Advisory Committee | February 12-13, June 29-30, October 14-15 | 3014512392
Vaccines and Related Biological Products Advisory Committee | February 18-19, May 6-7, September 22-23, November 17-18 | 3014512391
CENTER FOR DRUG EVALUATION AND RESEARCH
Anesthetic and Life Support Drugs Advisory Committee | March 24-25, June 9-10, August 10-11, November 17-18 | 3014512529
Anti-Infective Drugs Advisory Committee | February 2—Joint Meeting with Pediatric Subcommittee and Psychopharmacologic Drugs Advisory Committee, February 3-4—Pediatric Subcommittee | 3014512530
Antiviral Drugs Advisory Committee | April 27-28, October 27-28 | 3014512531
Arthritis Advisory Committee | May 12-13, July 14-15, October 21-22 | 3014512532
Cardiovascular and Drugs Health Advisory Committee | May 6-7, July 16, August 5-6 | 3014512533
Dermatologic and Ophthalmic Drugs Advisory Committee | February 26-27—Joint Meeting with Drug Safety and Risk Management Advisory Committee, April 1-2, May 6-7, June 24-25, August 26-27, September 9-10 | 3014512534
Drug Safety and Risk Management Advisory Committee | February 26-27—Joint Meeting with Dermatologic and Ophthalmic Drugs Advisory Committee, April 22-23, June 3-4, September 9-10, November 4-5 | 3014512535
Endocrinologic and Metabolic Drugs Advisory Committee | February 26-27, April 22-23, June 22-23, September 23 | 3014512536
Gastrointestinal Drugs Advisory Committee | To Be Announced | 3014512538
Nonprescription Drugs Advisory Committee | March-Day To Be Announced June-Day To Be Announced December 16—Joint Meeting with Advisory Committee for Reproductive Health Drugs | 3014512541
Oncologic Drugs Advisory Committee | March 16-17, June 15-16 | 3014512542
Peripheral and Central Nervous System Drugs | To Be Announced | 3014512543
Pharmaceutical Science, Advisory Committee for | April 13-14 | 3014512539
Psychopharmacologic Drugs Advisory Committee | February 2—Joint Meeting with Anti-Infective Drugs Advisory Committee and Pediatric Subcommittee | 3014512544
Pulmonary-Allergy Drugs Advisory Committee | June 29-30, November 4-5 | 3014512545
Reproductive Health Drugs, Advisory Committee for | October—Day To Be Announced, December—Day To Be Announced | 3014512537
CENTER FOR DEVICES AND RADIOLOGICAL HEALTH
Device Good Manufacturing Practice Advisory Committee | September 9-10 | 3014512398
Medical Devices Advisory Committee (Comprised of 18 Panels)
Anesthesiology and Respiratory Therapy Devices Panel | March 25-26, June 17-18, September 9-10, November 15-16 | 3014512624
Circulatory Systems Panel | March 17-18, May 19-20, July 21-22, September 22-23, November 17-18 | 3014512625
Clinical Chemistry and Clinical Toxicology Devices Panel | March 30-31, June 24-25, September 16-17, December 6-7 | 3014512514
Dental Products Panel | April 14-15 | 3014512518
Ear, Nose, and Throat Devices Panel | April 21-22, June 15-16, August 30-31, October 6-7, December 1-2 | 3014512522
Gastroenterology-Urology Devices Panel | April 30, July 16, October 22 | 3014512523
General and Plastic Surgery Devices Panel | March 11-12, May 26-27, August 9-10, October 18-19 | 3014512519
General Hospital and Personal Use Devices Panel | April 6-7, July 12-13, October 18-19 | 3014512520
Hematology and Pathology Devices Panel | April 23, October 22 | 3014512515
Immunology Devices Panel | February 26, April 23, October 22 | 3014512516
Medical Devices Dispute Resolution Panel | To Be Announced as Needed | 3014510232
Microbiology Devices Panel | April 8-9, July 29-30, November 9-10 | 3014512517
Molecular and Clinical Genetics Panel | April 28-29, July 19-20, October 20-21 | 3014510231
Neurological Devices Panel | February 23, April 1-2, August 5-6, October 28-29 | 3014512513
Obstetrics and Gynecology Devices Panel | April 26-27, July 26-27, October 25-26 | 3014512524
Ophthalmic Devices Panel | February 5-6, March 4-5, May 13-14, July 8-9, September 22-23, November 4-5 | 3014512396
Orthopaedic and Rehabilitation Devices Panel | March 22-23, June 3-4, August 12-13, December 2-3 | 3014512521
Radiological Devices Panel | February 3, May 18, August 10, November 16 | 3014512526
National Mammography Quality Assurance Advisory Committee | April 5 | 3014512397
Technical Electronic Product Radiation Safety Standards Committee | None | 3014512399
CENTER FOR FOOD SAFETY AND APPLIED NUTRITION
Food Advisory Committee—Full Committee and Subcommittee | August 16-17 | 3014510564
Additives and Ingredients Subcommittee | May 26-27 | 3014510564
Biotechnology Subcommittee | July 21-22 | 3014510564
Contaminants and Natural Toxicants Subcommittee | November 16-17 | 3014510564
Dietary Supplements Subcommittee | September 14-15 | 3014510564
Infant Formula | June 22-23 | 3014510564
Nutrition Subcommittee | March 30-31 | 3014510564
CENTER FOR VETERINARY MEDICINE
Veterinary Medicine Advisory Committee | September 23-24 | 3014512548
NATIONAL CENTER FOR TOXICOLOGICAL RESEARCH
Science Advisory Board to National Center for Toxicological Research | August 11 | 3014512559
Advisory Committee on Special Studies Relating to the Possible Long-Term Health Effects of Herbicides and Contaminants | January 21, April 12, August 3, October 26 | 3014512560

Dated: December 23, 2003.
Peter J. Pitts,
Associate Commissioner for External Relations.

[FR Doc. 03-32103 Filed 12-30-03; 8:45 am]

BILLING CODE 4160-01-S